Memorandum of May 23, 2025

Unified Command Plan Change

Memorandum for the Secretary of Defense

Pursuant to my authority as Commander in Chief, I hereby approve and direct implementation of the revised 2022 Unified Command Plan requested by the Secretary of Defense on April 22, 2025.

Consistent with section 161(b)(2) of title 10, U.S. Code, and section 301 of title 3, U.S. Code, you are directed to notify Congress on my behalf.

You are authorized and directed to publish this memorandum in the Federal Register.

THE WHITE HOUSE,

Washington, May 23, 2025

[FR Doc. 2025-10323

Filed 6-3-25; 11:15 am]

Billing code 6001-FR-P